DEPARTMENT OF DEFENSE

Department of the Navy

Notice of Record of Decision for Norfolk Harbor Channel Dredging, Norfolk and Portsmouth, VA

AGENCY: Department of the Navy, DoD.

ACTION: Notice.

SUMMARY: The Department of the Navy (DON), after carefully weighing the operational and environmental consequences of the proposed action, announces its decision to deepen approximately five miles of Norfolk Harbor Channel, the Federal navigational channel in the Southern Branch of the Elizabeth River, separating Norfolk and Portsmouth, Virginia. Dredging in the heavily-used waterway would occur from the Lamberts Point Deperming Station in the Lamberts Bend Reach, south to Naval Support Activity Norfolk Naval Shipyard, commonly referred to as the Norfolk Naval Shipyard (NNSY), in the Lower Reach. Dredged material would be placed at The U.S. Army Corps of Engineers' (USACE) Craney Island Dredged Material Management Area (CIDMMA). The deepening project will establish continuously safe and expeditious transit routes for U.S. Naval Ships to Lamberts Point Deperming Station and NNSY. Dredging would occur completely within the existing USACE-maintained federal navigation channel. In its decision, the Navy considered applicable executive orders, including an analysis of the effects of its actions in compliance with the Endangered Species Act, the Coastal Zone Management Act, and the National Historic Preservation Act, and the requirements of Executive Order (EO) 12898, Federal Actions to Address Environmental Justice in Minority Populations and Low Income Populations and EO 13045, Protection of Children from Environmental Health Risks and Safety Risks.

The proposed action will be accomplished as set out in Alternative A, described in the Final Environmental Impact Statement (EIS) as the preferred alternative. Implementation of the preferred alternative could begin immediately.

SUPPLEMENTARY INFORMATION: The Record of Decision (ROD) has been distributed to all those individuals who requested a copy of the Final EIS and agencies and organizations that received a copy of the Final EIS. The full text of the Navy's ROD is available for public viewing on the project Web site at http://www.norfolkdredgingeis.com, along with copies of the Final EIS and supporting documents. Single copies of the ROD will be made available upon request by contacting Ms. Caren Hendrickson, Naval Facilities Engineering Command Mid-Atlantic, telephone 757-444-1030.

Dated: September 3, 2009.
T. M. Cruz,
Lieutenant Commander, Office of the Judge Advocate General, U.S. Navy, Alternate Federal Register Liaison Officer.

[FR Doc. E9-21819 Filed 9-9-09; 8:45 am]

BILLING CODE 3810-FF-P